DEPARTMENT OF TRANSPORTATION

Federal Railroad Administration

Notice of Funding Opportunity for Projects Located Off the Northeast Corridor for the Fiscal Year 2024 Federal-State Partnership for Intercity Passenger Rail Program

AGENCY: Federal Railroad Administration (FRA), Department of Transportation (DOT).

ACTION: Notice.

SUMMARY: The Federal Railroad Administration has published a Notice of Funding Opportunity (NOFO), which details the application requirements and procedures to obtain grant funding for eligible projects under the Fiscal Year (FY) 2024 Federal-State Partnership for Intercity Passenger Rail Program for Projects Not Located on the Northeast Corridor. The total funding available for awards under this NOFO is up to $1,057,596,637. The full text of the Notice of Funding Opportunity (NOFO) can be found on FRA's website at https://railroads.dot.gov/federal-state-partnership-intercity-passenger and at www.Grants.gov using the funding opportunity ID FR-FSP-24-003.

DATES: Applications for funding under this solicitation are due no later than 11:59 p.m. EST, December 16, 2024. Applications that are incomplete or received after 11:59 p.m. EST, December 16, 2024 will not be considered for funding. See section D of the NOFO for additional information on the application process.

ADDRESSES: Applications must be submitted via www.Grants.gov. Only applicants who comply with all submission requirements described in this notice and submit applications through www.Grants.gov will be eligible for award. For any supporting application materials that an applicant is unable to submit via www.Grants.gov (such as oversized engineering drawings), an applicant may submit an original and two (2) copies to Office of Rail Program Development, Federal Railroad Administration, 220 Binney Street, Kendall Square, Cambridge, MA 02142. However, due to delays caused by enhanced screening of mail delivered via the U.S. Postal Service, applicants are advised to use other means of conveyance (such as courier service) to ensure timely receipt of materials before the application deadline.

FOR FURTHER INFORMATION CONTACT: For further information concerning this notice, please contact the FRA NOFO Support program staff via email at FRA-NOFO-Support@dot.gov. If additional assistance is needed, you may contact Sergio Coronado, 617-571-1213, Sergio.Coronado@dot.gov; Caitlyn Mitchell, 202-579-3867, Caitlyn.Mitchell@dot.gov; or Marc Dixon, 202-493-0614, Marc.Dixon@dot.gov; in FRA's Office of Rail Program Development.

Allison Ishihara Fultz,
Chief Counsel.

[FR Doc. 2024-22586 Filed 10-1-24; 8:45 am]

BILLING CODE 4910-06-P